DEPARTMENT OF TRANSPORTATION

Federal Aviation Administration

14 CFR Part 39

[Docket No. 2003-NM-80-AD]

RIN 2120-AA64

Airworthiness Directives; Airbus Model A300 B4-600 and A300 C4-600 Series Airplanes

AGENCY: Federal Aviation Administration, DOT.

ACTION: Notice of proposed rulemaking (NPRM).

SUMMARY: This document proposes the adoption of a new airworthiness directive (AD) that is applicable to certain Airbus Model A300 B4-600 and A300 C4-600 series airplanes. This proposal would require a one-time inspection to detect damage of the pump diffuser guide slots (bayonet) of the center tank fuel pumps, the pump diffuser housings, and the pump canisters; repetitive inspections to detect damage of the fuel pumps and the fuel pump canisters; and corrective action, if necessary. This action is necessary to detect and correct damage of the center tank fuel pumps and fuel pump canisters, which could result in separation of a pump from its electrical motor housing, loss of flame trap capability, and a possible fuel ignition source in the center fuel tank. This action is intended to address the identified unsafe condition.

DATES: Comments must be received by January 20, 2004.

ADDRESSES: Submit comments in triplicate to the Federal Aviation Administration (FAA), Transport Airplane Directorate, ANM-114, Attention: Rules Docket No. 2003-NM-80-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-80-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-80-AD.” The postcard will be date stamped and returned to the commenter.

Availability of NPRMs

Any person may obtain a copy of this NPRM by submitting a request to the FAA, Transport Airplane Directorate, ANM-114, Attention: Rules Docket No. 2003-NM-80-AD, 1601 Lind Avenue, SW., Renton, Washington 98055-4056.

Discussion

The Direction Générale de l'Aviation Civile (DGAC), which is the airworthiness authority for France, notified the FAA that an unsafe condition may exist on certain Airbus Model A300 B4-600 and A300 C4-600 series airplanes. The DGAC previously advised the FAA that damaged center tank fuel pumps and pump canisters had been found on Airbus Model A300 B4-600R and A300 F4-600R series airplanes. Investigation revealed that the pump canister legs had cracked due to fatigue. In one instance, this led to the separation of the upper part of the pump canister from its lower part attached at the center tank bottom wall. Fatigue cracking was also found at the base of the fuel pump diffuser housing. The DGAC has since advised the FAA that fuel tank pump canisters have also been found broken on Model A300 B4-600 and A300 C4-600 series airplanes, which are consequently subject to the unsafe condition identified in this proposed AD: separation of a fuel pump from its electrical motor housing, loss of flame trap capability, and a possible fuel ignition source in the center fuel tank.

Related Rulemaking

On December 23, 1999, the FAA issued AD 99-27-07, amendment 39-11488 (65 FR 213, January 4, 2000), for all Model A300 B4-600R and A300 F4-600R series airplanes. That AD requires a one-time inspection for damage of the center tank fuel pumps and fuel pump canisters, repetitive inspections of the fuel pumps and fuel pump canisters, and replacement of damaged parts with new or serviceable parts. The actions specified by that AD are intended to detect damage to the fuel pump and fuel pump canister, which could result in loss of flame trap capability and could provide a fuel ignition source in the center fuel tank.

Explanation of Relevant Service Information

Airbus has issued All Operators Telex (AOT) A300-600-28A6075, dated February 20, 2003, which describes procedures for the following:

• A one-time detailed inspection to detect cracks, fretting, and other damage of the lower part of the pump diffuser guide slots (bayonet) of the center tank fuel pumps and the bottom of the pump diffuser housings; and replacement of any damaged pump and its corresponding fuel pump canister with new parts.

• A one-time detailed inspection to detect cracks of the center tank fuel pump canisters, and replacement of any cracked fuel pump canister and its corresponding fuel pump with new parts.

• Repetitive detailed inspections to detect damage of the fuel pumps, and replacement of any damaged pump with a new part.

• Repetitive nondestructive test (NDT) inspections to detect damage of the fuel pump canisters, and replacement of any damaged canister with a new part. Replacement of a canister would reset the inspection schedule for the next inspection to 7,000 flight cycles, to be repeated within 1,500-flight-cycle intervals. Replacement of a canister eliminates the need to reinspect the fuel pumps.

• A report of the findings for each inspection.

The DGAC classified this AOT as mandatory and issued French telegraphic airworthiness directive 2003-085 (B), dated February 21, 2003, to ensure the continued airworthiness of these airplanes in France.

Airbus AOT A300-600-28A6075 refers to Airbus Alert Service Bulletin A300-28A6061, Revision 04, dated August 1, 2002, as an additional source of service information for accomplishment of the NDT inspections.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in and in accordance with the AOT described previously, except as discussed under “Differences Between Proposed AD and AOT/French Airworthiness Directive.” This proposed AD would also require that operators report their findings to the manufacturer.

Differences Between Proposed AD and AOT/French Airworthiness Directive

The DGAC issued French airworthiness directive 2003-085 (B) as “telegraphic.” The FAA agrees that the unsafe condition could warrant immediate attention but finds it unnecessary to immediately adopt this rule. At the time of issuance, this proposed AD would affect only two airplanes. The FAA has been advised that the one-time detailed inspections specified in paragraph (a) of this proposed AD (with a proposed compliance time of 15 days) have been accomplished for both affected airplanes. Furthermore, the proposed compliance time for the repetitive inspections is long enough to provide notice and the opportunity for public comment on the proposed rule.

The applicability/effectivity for the French airworthiness directive/AOT includes A300 B4-600 and A300 C4-600 series airplanes, which are identified as “A300-600 aircraft without a fuel trim tank system (pre-production Mod 4801).” The only Model A300 C4-600 airplane listed on the type certificate data sheet is the A300 C4-605 Variant F. Therefore, the applicability of this proposed AD is Model A300 B4-601, A300 B4-603, A300 B4-620, and A300 C4-605 Variant F series airplanes; except those equipped with a fuel trim tank system.

The French airworthiness directive excludes certain airplanes (serial numbers 546, 553, 618, and 623) that “have already been inspected per Airbus Alert Service Bulletin A300-28A6061.” However, that inspection must be repeated at regular intervals. The FAA finds that those airplanes are still subject to the identified unsafe condition and should be included in the applicability of this proposed AD.

Interim Action

This is considered to be interim action. The inspection reports that would be required by this proposed AD would enable the manufacturer to obtain better insight into the nature, cause, and extent of the fuel pump damage, and eventually to develop final action to address the unsafe condition. Once final action has been identified, the FAA may consider further rulemaking.

Changes to 14 CFR Part 39/Effect on the Proposed AD

On July 10, 2002, the FAA published a new version of 14 CFR 39 (67 FR 47997, July 22, 2002), which governs the FAA's AD system. This regulation now includes material that relates to altered products, special flight permits, and alternative methods of compliance (AMOCs). This proposed AD does not include this material; however, the office authorized to approve AMOCs is identified in paragraph (d).

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

The FAA estimates that 2 airplanes of U.S. registry would be affected by this proposed AD. The detailed inspections would take about 2 work hours per airplane, and the NDT inspection would take about 5 work hours per airplane, per inspection cycle. The average labor rate is $65 per work hour. Based on these figures, the cost per airplane is estimated to be $130 for the detailed inspections and $325 per NDT inspection.

The FAA has been advised that the proposed one-time detailed inspections have already been accomplished for both of the U.S.-registered airplanes. Therefore, the future economic cost impact of this proposed AD on U.S. operators would be only $325 per airplane, per each of the repetitive NDT inspections.

The cost impact figures discussed in AD rulemaking actions represent only the time necessary to perform the specific actions actually required by the AD. These figures typically do not include incidental costs, such as the time required to gain access and close up, plan, or perform other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2003-NM-80-AD.

Applicability: Model A300 B4-601, A300 B4-603, A300 B4-620, and A300 C4-605 Variant F series airplanes; certificated in any category; except those airplanes equipped with a fuel trim tank system (Airbus Modification 4801).

Compliance: Required as indicated, unless accomplished previously.

To detect and correct damage of the center tank fuel pumps and fuel pump canisters, which could result in separation of a pump from its electrical motor housing, loss of flame trap capability, and a possible fuel ignition source in the center fuel tank, accomplish the following:

Detailed Inspections

(a) Within 15 days after the effective date of this AD (unless accomplished previously), perform detailed inspections as specified in paragraphs (a)(1) and (a)(2) of this AD, in accordance with paragraph 4.2 of Airbus All Operators Telex (AOT) A300-600-28A6075, dated February 20, 2003.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) Inspect the lower part of the pump diffuser guide slots (bayonet) of the center tank fuel pumps and the bottom of the pump diffuser housings to detect cracks, fretting, and other damage. Replace any damaged pump and the corresponding fuel pump canister with new parts before further flight in accordance with the AOT.

(2) Inspect the center tank fuel pump canisters to detect cracks. Replace any cracked fuel pump canister and the corresponding fuel pump with new parts before further flight in accordance with the AOT.

Repetitive Inspections

(b) Within 600 flight hours after the effective date of this AD: Perform a detailed inspection of the fuel pumps, and an eddy current inspection of the fuel pump canisters, to detect damage. Do the inspections in accordance with paragraph 4.3 of Airbus AOT A300-600-28A6075, dated February 20, 2003. Replace any damaged part with a new part before further flight in accordance with the AOT. Repeat the inspections at intervals not to exceed 1,500 flight cycles.

(c) Within 7,000 flight cycles after canister replacement as specified in paragraph (b) of this AD: Perform an eddy current inspection of the fuel pump canisters to detect damage in accordance with Airbus AOT A300-600-28A6075, dated February 20, 2003. Replace any damaged part with a new part before further flight in accordance with the AOT. Thereafter repeat the inspection at intervals not to exceed 1,500 flight cycles.

Note 2: Airbus AOT A300-600-28A6075 refers to Airbus Alert Service Bulletin A300-28A6061, Revision 04, dated August 1, 2002, as an additional source of service information for accomplishment of the eddy current inspection required by paragraph (b)(2) of this AD.

Reporting Requirement

(d) At the applicable time specified in paragraph (d)(1) or (d)(2) of this AD: Submit a report of findings (both positive and negative) of each inspection required by this AD, in accordance with Airbus AOT A300-600-28A6075, dated February 20, 2003. Information collection requirements contained in this AD have been approved by the Office of Management and Budget (OMB) under the provisions of the Paperwork Reduction Act of 1980 (44 U.S.C. 3501 et seq.) and have been assigned OMB Control Number 2120-0056.

(1) For any inspection accomplished after the effective date of this AD: Submit the report within 10 days after performing that inspection.

(2) For any inspection accomplished before the effective date of this AD: Submit the report within 10 days after the effective date of this AD.

Alternative Methods of Compliance

(e) In accordance with 14 CFR 39.19, the Manager, International Branch, ANM-116, FAA, is authorized to approve alternative methods of compliance for this AD.

Note 3: The subject of this AD is addressed in French telegraphic airworthiness directive 2003-085 (B), dated February 21, 2003.

Issued in Renton, Washington, on December 10, 2003.
Kevin Mullin,
Acting Manager, Transport Airplane Directorate, Aircraft Certification Service.

[FR Doc. 03-31182 Filed 12-17-03; 8:45 am]

BILLING CODE 4910-13-P